DEPARTMENT OF ENERGY

Biomass Research and Development Technical Advisory Committee

AGENCY: Department of Energy, Office of Energy Efficiency and Renewable Energy.

ACTION: Notice of open teleconference meeting.

SUMMARY: This notice announces an open teleconference meeting of the Biomass Research and Development Technical Advisory Committee under the Biomass Research and Development Act of 2000. The Federal Advisory Committee Act (Pub. L. 92-463, 86 Stat. 770) requires that agencies publish these notices in the Federal Register to allow for public participation. This notice announces the meeting of the Biomass Research and Development Technical Advisory Committee.

DATES: March 19, 2009 at 11 a.m.-12 p.m. EST.

ADDRESSES: Meeting will be conducted via conference call. Call-in information can be obtained by contacting T.J. Heibel at (410) 997-7778 ext. 223; e-mail: theibel@bcs-hq.com.

FOR FURTHER INFORMATION CONTACT: Valri Lightner, Designated Federal Official for the Committee, Office of Energy Efficiency and Renewable Energy, U.S. Department of Energy, 1000 Independence Avenue, SW., Washington, DC 20585; (202) 586-0937 or T.J. Heibel at (410) 997-7778 ext. 223; e-mail: theibel@bcs-hq.com

SUPPLEMENTARY INFORMATION: Purpose of Meeting: To provide advice and guidance that promotes research and development leading to the production of biobased fuels and biobased products.

Tentative Agenda: Agenda will include the following:

• Feedstock Subcommittee Report Out.

Public Participation: In keeping with procedures, members of the public are welcome to observe the business of the Biomass Research and Development Technical Advisory Committee. To attend the meeting and/or to make oral statements regarding any of the items on the agenda, you should contact Valri Lightner at 202-586-0937; e-mail: valri.lightner@ee.doe.gov or T.J. Heibel at (410) 997-7778 ext. 223; e-mail: theibel@bcs-hq.com You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business. This notice is being published less than 15 days before the date of the meeting due to programmatic issues.

Minutes: The minutes of the meeting will be available for public review and copying at http://www.brdisolutions.com/publications/default.aspx#meetings.

Issued at Washington, DC on March 4, 2009.
Rachel Samuel,
Deputy Committee Management Officer.

[FR Doc. E9-5074 Filed 3-10-09; 8:45 am]

BILLING CODE 6450-01-P